DEPARTMENT OF AGRICULTURE

Food Safety and Inspection Service

[Docket No. FSIS-2013-0045]

Codex Alimentarius Commission: Meeting of the Codex Committee on Fish and Fish Products

AGENCY: Office of the Under Secretary for Food Safety, USDA.

ACTION: Notice of public meeting and request for comments.

SUMMARY: The Office of the Under Secretary for Food Safety, U.S. Department of Agriculture (USDA), National Oceanic and Atmospheric Administration (NOAA), and the Food and Drug Administration (FDA), are sponsoring a public meeting scheduled to take place on February 6, 2014. The objective of the public meeting is to present information and receive public comments on agenda items and draft United States positions to be discussed at the 33rd Session of the Codex Committee on Fish and Fishery Products (CCFFP) of the Codex Alimentarius Commission (Codex), which will take place in Bergen, Norway, from February 17-21, 2014. The Acting Under Secretary for Food Safety, NOAA, and FDA recognize the importance of providing interested parties the opportunity to obtain background information on the 33rd Session of CCFFP and to address items on the agenda.

DATES: The public meeting is scheduled for February 6, 2014, from 1:00 p.m. to 4:00 p.m.

ADDRESSES: The public meeting will take place at FDA, Center for Food Safety and Applied Nutrition (CFSAN), Wiley Building, Room 1A-001, 5100 Paint Branch Parkway, College Park, MD 20740.

Documents related to the 33rd session of CCFFP will be accessible via the World Wide Web at the following address: http://www.codexalimentarius.org/meetings-reports/en/.

Timothy Hansen and Dr. William Jones, U.S. Delegates to the 33rd session of CCFFP, invite U.S. interested parties to submit their comments electronically to the following email addresses: Timothy.Hansen@noaa.gov and William.Jones@fda.hhs.gov.

Call in Number:

If you wish to participate in the public meeting for the 33rd session of CCFFP by conference call, please use the call-in number and participant code listed below:

Call-in Number: 1-888-844-9904

Participant Code: 512-6092

For Further Information about the 33rd Session of CCFFP Contact: Timothy Hansen, Director, Seafood Inspection Program, National Marine Fisheries Services, National Oceanic and Atmospheric Administration, 1315 East West Highway SSMC #3, Silver Spring, MD 20910; Telephone: (301) 713-2355, Fax: (301) 713-1081, Email: Timothy.Hansen@noaa.gov.

Dr. William Jones, Director, Division of Seafood Safety, Office of Food Safety, (HFS-325), U.S. Food and Drug Administration, 5100 Paint Branch Parkway, College Park, MD, 20740; Phone: (240) 402-2300, Fax: (301) 436-2601, Email: William.Jones@fda.hhs.gov.

For Further Information About the Public Meeting Contact: Paulo Almeida, U.S. Codex Office, 1400 Independence Avenue SW., Room 4861, South Building, Washington, DC 20250; Telephone: (202) 205-7760, Fax: (202) 720-3157, Email: Paulo.Almeida@fsis.usda.gov.

SUPPLEMENTARY INFORMATION:

Background

Codex was established in 1963 by two United Nations organizations, the Food and Agriculture Organization and the World Health Organization. Through adoption of food standards, codes of practice, and other guidelines developed by its committees, and by promoting their adoption and implementation by governments, Codex seeks to protect the health of consumers and ensure that fair practices are used in the food trade.

The CCFFP is responsible for elaborating worldwide standards for fresh, frozen (including quick frozen) or otherwise processed fish, crustaceans and mollusc. The Committee is hosted by Norway.

Issues To Be Discussed at the Public Meeting

The following items on the Agenda for the 33rd session of CCFFP will be discussed during the public meeting:

• Matters referred to the Committee by the Codex Alimentarius Commission and other Codex Committees

• Matters arising from the work of the Food and Agricultural Organization (FAO) and the World Health Organization (WHO)

• Matters arising from the work of the World Organization for Animal Health (OIE)

• Draft Performance Criteria for Reference and Confirmatory Methods for Marine Biotoxins (Section I-8.6 Determination of Biotoxins) in the Standard for Live and Raw Bivalve Molluscs

• Standard for Smoked Fish, Smoke-Flavoured Fish, and Smoke-Dried Fish (Section 4 Food Additives)

• Draft Standard for Raw, Fresh, and Quick Frozen Scallop Products

• Proposed Draft Code of Practice on the Processing of Scallop Meat

• Proposed Draft Code of Practice for Fish and Fishery Products (section on Sturgeon caviar)

• Proposed Draft Code of Practice for Processing of Fish Sauce

• Proposed Food Additive Provisions in Standards for Fish and Fishery Products (food additive provisions in adopted standards)

• Discussion Paper on Histamine

• Discussion Paper on Nitrogen Factors

• Code of Practice for Fish and Fishery Products (optional final product requirements for commodities)

Each issue listed will be fully described in documents distributed, or to be distributed, by the Codex Secretariat before the Committee Meeting. Members of the public may access or request copies of these documents (see ADDRESSES).

Public Meeting

At the February 6, 2014, public meeting, draft U.S. positions on the agenda items will be described and discussed, and attendees will have the opportunity to pose questions and offer comments. Written comments may be offered at the meeting or sent to the U.S. Delegates for the 33rd session of CCFFP, Timothy Hansen & Dr. William Jones (see ADDRESSES). Written comments should state that they relate to activities of the 33rd session of CCFFP.

USDA Nondiscrimination Statement

The U.S. Department of Agriculture (USDA) prohibits discrimination in all its programs and activities on the basis of race, color, national origin, gender, religion, age, disability, political beliefs, sexual orientation, and marital or family status. (Not all prohibited bases apply to all programs.) Persons with disabilities who require alternative means for communication of program information (Braille, large print, audiotape, etc.) should contact USDA's Target Center at (202) 720-2600 (voice and TTY). To file a written complaint of discrimination, write USDA, Office of the Assistant Secretary for Civil Rights, 1400 Independence Avenue SW., Washington, DC 20250-9410 or call (202) 720-5964 (voice and TTY). USDA is an equal opportunity provider and employer.

Additional Public Notification

FSIS will announce this notice online through the FSIS Web page located at http://www.fsis.usda.gov/wps/portal/fsis/topics/regulations/federal-register. FSIS will also make copies of this Federal Register publication available through the FSIS Constituent Update, which provides information on FSIS policies, procedures, regulations, Federal Register notices, FSIS public meetings, and other matters that could affect or would be of interest to constituents and stakeholders. The Update is communicated via Listserv, a free electronic mail subscription service for industry, trade groups, consumer interest groups, health professionals, and other individuals who have asked to be included. The Update is also available on the FSIS Web page. In addition, FSIS offers an email subscription service which provides automatic and customized access to selected food safety news and information. This service is available at: http://www.fsis.usda.gov/wps/portal/fsis/programs-and-services/email-subscription-service. Options range from recalls to export information to regulations, directives and notices. Customers can add or delete subscriptions themselves, and have the option to password protect their account.

Done at Washington, DC on: January 9, 2014.
Mary Frances Lowe,
U.S. Manager for Codex Alimentarius.

[FR Doc. 2014-01475 Filed 1-27-14; 8:45 am]

BILLING CODE 3410-DM-P